DEPARTMENT OF DEFENSE

Office of the Secretary

Revised Non-Foreign Overseas Per Diem Rates; Correction

AGENCY: Defense Human Resources Activity, Department of Defense (DoD).

ACTION: Notice of revised per diem rates in non-foreign areas outside the Continental United States (OCONUS); correction.

SUMMARY: On Wednesday, June 12, 2024, DoD published a notice in the Federal Register announcing the per diem rates that were effective on June 1, 2024. Subsequent to publication, DoD discovered a typographical error in the table. This notice corrects that error.

DATES: This correction takes effect June 21, 2024.

FOR FURTHER INFORMATION CONTACT: Ms. Debbie Wells, 571-372-1322, debbie.l.wells.civ@mail.mil.

SUPPLEMENTARY INFORMATION: On Wednesday, June 12, 2024 (89 FR 49864-49867), the notice titled Revised Non-Foreign Overseas Per Diem Rates is corrected as follows:

On page 49867, in the table, in the Effective date column, in the fourth date from the top of the table, “04/01/2024” is corrected to read “06/01/2024”.

Dated: June 17, 2024.
Aaron T. Siegel,
Alternate OSD Federal Register Liaison Officer, Department of Defense.

[FR Doc. 2024-13661 Filed 6-20-24; 8:45 am]

BILLING CODE 6001-FR-P